DEPARTMENT OF LABOR

Office of the Secretary

Agency Information Collection Activities; Submission for OMB Review; Comment Request; Training Plans and Records of Training, for Underground Miners and Miners Working at Surface Mines and Surface Areas of Underground Mines

ACTION: Notice of availability; request for comments.

SUMMARY: The Department of Labor (DOL) is submitting this Mining Safety and Health Administration (MSHA)-sponsored information collection request (ICR) to the Office of Management and Budget (OMB) for review and approval in accordance with the Paperwork Reduction Act of 1995 (PRA). Public comments on the ICR are invited.

DATES: The OMB will consider all written comments that agency receives on or before April 16, 2021.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: Section 103(h) of the Federal Mine Safety and Health Act of 1977, as amended (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal or other mines. The Mine Act recognizes that education and training is an important element of efforts to make the nation's mines safe. Section 115(a) of the Mine Act states that “each operator of a coal or other mine shall have a health and safety training program which shall be approved by the Secretary.”

Title 30 CFR 48.3 and 48.23 require training plans for underground and surface mines, respectively. These standards are intended to ensure that miners will be effectively trained in matters affecting their health and safety, with the ultimate goal of reducing the occurrence of injury and illness in the nation's mines. Training plans are required to be submitted for approval to the MSHA District Manager for the area in which the mine is located. Plans must contain the following: (1) Company name; (2) mine name; (3) MSHA identification number of the mine; (4) the name and position of the person designated by the operator who is responsible for health and safety training at the mine; (5) a list of MSHA-approved instructors with whom the operator proposes to make arrangements to teach the courses and the courses each instructor is qualified to teach; (6) the location where training will be given for each course; (7) a description of the teaching methods and the course materials which are to be used in training; (8) the approximate number of miners employed at the mine and the maximum number who will attend each session of training; (9) the predicted time or periods of time when regularly scheduled refresher training will be given including the titles of courses to be taught; (10) the total number of instruction hours for each course; and (11) the predicted time and length of each session of training for new task training including a complete list of task assignments, the titles of personnel conducting the training, the outline of training procedures used, and the evaluation procedures used to determine the effectiveness of the training.

Title 30 CFR 48.9 and 48.29 require records of training for underground and surface mines, respectively. Upon completion of each training program, the mine operator certifies on a form approved by the Secretary, MSHA Form 5000-23, Certificate of Training, that the miner has received the specified training in each subject area of the approved health and safety training plan. The Certificate of Training forms are to be maintained by the operator for a period of 2 years for current employees and for 60 days after termination of a miner's employment, and must be available for inspection at the mine site. In addition, the miner is entitled to a copy of the certificate upon completion of the training and when the miner leaves the operator's employment. For additional substantive information about this ICR, see the related notice published in the Federal Register on October 29, 2020 (85 FR 68600).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Training Plans and Records of Training, for Underground Miners and Miners Working at Surface Mines and Surface Areas of Underground Mines.

OMB Control Number: 1219-0009.

Affected Public: Businesses or other for-profits institutions.

Total Estimated Number of Respondents: 5,828.

Total Estimated Number of Responses: 143,145.

Total Estimated Annual Time Burden: 14,773 hours.

Total Estimated Annual Other Costs Burden: $468,122.

Authority: 44 U.S.C. 3507(a)(1)(D).

Dated: March 10, 2021.
Anthony May,
Management and Program Analyst.

[FR Doc. 2021-05470 Filed 3-16-21; 8:45 am]

BILLING CODE 4510-43-P